DEPARTMENT OF COMMERCE

National Oceanic and Atmospheric Administration

RIN: 0648-XC60

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings, in Anchorage AK.

DATES: The meetings will be held on October 1, 2007 through October 9, 2007. See SUPPLEMENTARY INFORMATION for specific dates and times.

ADDRESSES: The meetings will be held at the Anchorage Hilton Hotel, 500 West 3rd Avenue, Anchorage, AK.

Council address: North Pacific Fishery Management Council, 605 W. 4th Avenue, Suite 306, Anchorage, AK 99501-2252.

FOR FURTHER INFORMATION CONTACT: David Witherell, Council staff; telephone: (907) 271-2809.

SUPPLEMENTARY INFORMATION: The Council will begin its plenary session at 8 a.m. on Wednesday, October 3 continuing through Tuesday October 9, 2007. The Council's Advisory Panel (AP) will begin at 8 a.m., Monday, October 1 and continue through Saturday October 6. The Scientific and Statistical Committee (SSC) will begin at 8 a.m. on Monday, October 1 and continue through Wednesday October 3, 2007. The Enforcement Committee will meet Tuesday, October 2, from 1 p.m. to 4 p.m. in the Iliamna Room. The Crab Advisory Committee will meet 6 p.m. to 8 p.m. in the King Salmon Room. All meetings are open to the public, except executive sessions.

Council Plenary Session: The agenda for the Council's plenary session will include the following issues. The Council may take appropriate action on any of the issues identified.

1. Reports

Executive Director's Report (including Magnuson-Stevens Fishery Management Act)

NMFS Management Report

U.S. Coast Guard Report

Alaska Department of Fish & Game Report

U.S. Fish & Wildlife Service Report

Protected Species Report (Steller Sea Lion (SSL) Measures Environmental Impact Statement (EIS): Notice of Intent, Draft Marine Mammal Protection Act (MMPA) List of Fisheries for 2008, SSL Recovery Plan and Biological Opinion Update, act as necessary)

2. Charter Halibut Management: Initial review of Charter Halibut 3A Guideline Harvest Levels (GHL) measures; Preliminary review of Charter Halibut Allocation/Compensation; SSC review of charter halibut discard mortality information (T)(SSC only); SSC review of estimation procedures for charter halibut, Dusky Shelf rockfish, and shark catch (SSC only).

3. Halibut Subsistence: Discuss Alternatives for Halibut Subsistence Rural definition.

4. Bering Sea Aleutian Island (BSAI) Crab Fishery Management: Report on Crab data collection quality and confidentiality; Committee report-discussion paper on BSAI Crab 'B' Shares; Initial review BSAI Crab 'C' share 90/10 exemption; Initial review BSAI Crab custom processing (T); Initial review BSAI Crab post-delivery transfers (T).

5. Gulf of Alaska (GOA) Groundfish Issues: Preliminary review GOA Pacific cod sector split; Discussion paper on GOA fixed gear License Limitation Program (LLP) recency; action as necessary; Discussion paper on GOA sideboards; action as necessary; Initial review Central GOA rockfish post-delivery transfers (T).

6. LLP Trawl Recency: Initial review of analysis.

7. Amendment 80: Review discussion paper on Amendment 80 post-delivery transfers (T).

8. Socioeconomic Data Collection: Report on Comprehensive socioeconomic data collection.

9. Groundfish Management; Final action on GOA arrowtooth Maximum Retainable Amount (MRA), Regulatory Amendment; Initial review Western GOA pollock trip limit, Plan Amendment; Report on specifications per Amendment 80 and 85; action as necessary; Review new stock assessment information (SSC only); Initial action on Groundfish specification; Discussion paper on seabird avoidance measures for Area 4E; action as necessary; Review tasking plans for managing Other Species complex and discussion paper on analytical approach.

10. Salmon Management: Salmon Bycatch Workgroup report; Refine alternatives; Report on Salmon excluder Experimental Fishery Permit.

11. Crab Management: Crab Plan Team Report; Approve BSAI crab Stock Assessment Fishery Evaluation Report; Initial review BSI crab overfishing definition.

12. Arctic Fishery Management: Ecosystem Committee report and action as necessary; Review and approve outreach plan.

13. Staff Tasking: Review Committees and tasking, and take action as necessary; Review broader (Programmatic Supplemental Environmental Impact Statement) community outreach plan (T).

14. Other Business.

The SSC agenda will include the following issues:

1. Halibut Charter

2. BSAI Crab Management

3. GOA Groundfish

4. Socioeconomic data

5. LLP Trawl Recency

6. Groundfish Management

7. Salmon Bycatch

8. Crab Overfishing

The Advisory Panel will address the same agenda issues as the Council, except for reports. The Agenda is subject to change, and the latest version will be posted at http://www.fakr.noaa.gov/npfmc/.

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: September 12, 2007.
Emily Menashes,
Acting Director, Office of Sustainable Fisheries, National Marine Fisheries Service.

[FR Doc. E7-18229 Filed 9-14-07; 8:45 am]

BILLING CODE 3510-22-S